DEPARTMENT OF LABOR

Employment and Training Administration

[TA-W-59,052]

Array-Hartland, Hartland, Wisconsin; Notice of Intent To Terminate Certification Regarding Eligibility To Apply for Worker Adjustment Assistance and Alternative Trade Adjustment Assistance

In accordance with section 223 of the Trade Act of 1974 (19 U.S.C. 2273), and section 246 of the Trade Act of 1974, as amended, (26 U.S.C. 2813), the Department of Labor issued a Certification of Eligibility to Apply for Worker Adjustment Assistance and Alternative Trade Adjustment Assistance on April 7, 2006, applicable to workers of Array-Hartland, Hartland, Wisconsin. The notice was published in the Federal Register on April 18, 2006 (71 FR 19899).

At the request of the State agency, the Department reviewed the certification for workers of the subject firm. The State provided information indicating that the workers are covered under an existing certification of eligibility to apply for adjustment assistance under petition number TA-W-55,554, which does not expire until September 24, 2006.

The review of TA-W-55,554 shows that the company name is AMG Instore Inc., Hartland Division of Array Marketing Group. Although, the name varies somewhat from the company name under this certification (TA-W-59,052), the worker group and location are the same. The workers produce point of purchase signs and displays at 340 Maple Avenue, Hartland, Wisconsin.

Since the worker group was covered by a TAA certification when the decision for TA-W-59,052 was issued on April 7, 2006, it is the Department's intent to terminate this certification in order to avoid an overlap in worker group coverage.

Any persons showing a substantial interest in the termination of this certification are invited to submit written comments to the Director, Division of Trade Adjustment Assistance, U.S. Department of Labor, Room C-5311, 200 Constitution Avenue, NW., Washington, DC 20210. Submit written comments not later than May 15, 2006.

Signed in Washington, DC, this 19th day of April, 2006.
Linda G. Poole,
Certifying Officer, Division of Trade Adjustment Assistance.

[FR Doc. E6-6840 Filed 5-4-06; 8:45 am]

BILLING CODE 4510-30-P